DEPARTMENT OF AGRICULTURE

Forest Service

Bridger-Teton National Forest—Big Piney and Jackson Ranger Districts, WY; Lower Valley Energy Natural Gas Pipeline

AGENCY: Forest Service, USDA.

ACTION: Notice of intent to prepare an Environmental Impact Statement.

SUMMARY: The Forest Service has received an application for a special use permit for the construction and operation of a natural gas pipeline from Lower Valley Energy. This pipeline would bring natural gas service to the Jackson, Wyoming area from a location near Merna, Wyoming. Design of the proposed project, including final route selection, a proposed gas processing facility, and access needs along the pipeline route for maintenance, will also be considered in the Environmental Impact Statement (EIS).

DATES: Comments concerning the proposed action should be received by August 31, 2004. Comments on issues that you feel should be evaluated as part of this analysis or are essential to this environmental analysis process should be submitted by the above date. Please direct any project related questions or comments to the following individuals.

ADDRESSES: Send written comments to: Greg Clark, District Ranger, Big Piney Ranger District; P.O. Box 218; Big Piney, Wyoming 83113. Electronic comments may be sent to mailroom_r4_bridger_teton@fs.fed.us with the subject line “Lower Valley Pipeline”.

FOR FURTHER INFORMATION CONTACT: Teresa Trulock, Project Manager, at the Big Piney Ranger District at 307-276-3375. The local contact in the Jackson area is Dave Cunningham at the Jackson Ranger District, at 307-739-5423.

SUPPLEMENTARY INFORMATION:

Project Area

The proposed Lower Valley Energy Natural Gas Pipeline project encompasses nearly 50 linear miles from Jackson to the vicinity of Merna, in Sublette and Teton Counties, Wyoming. The project area includes portions of the Big Piney and Jackson Ranger Districts of the Bridger-Teton National Forest. The proposed pipeline would parallel existing roadways and utility corridors for a portion of its proposed route. The pipeline would cross portions of the following townships: Township 36 North, Ranges 112 and 113 West; Township 37 North Ranges 111, 112, and 113 West; Township 38 North, Ranges 113, 114, and 115 West; Township 39 North, Ranges 115 and 116 West; and Township 40 North, Range 116 West; Sixth Principal Meridian.

Purpose and Need for Action

The current gas supply for Lower Valley Energy's distribution system is a liquid natural gas (LNG) facility located adjacent to its Jackson, Wyoming office. Tanker trucks currently transport LNG from the Shute Creek facility, located south of La Barge, Wyoming, to Lower Valley Energy's LNG facility. Delivery of LNG to the Jackson area requires that trucks, carrying approximately 10,000 gallons of LNG, travel approximately 120 miles (one way) on public highways (U.S. highways 287/191/26 and 89/191) on a daily basis. Approximately 665 round trips by tanker trucks are projected by the year 2010. The purpose of the proposed project is to provide a steady supply of natural gas to the Jackson area, eliminating the need for 500 to 600 tanker truck round trips per year along public highways.

Proposed Action

Lower Valley Energy proposes to construct a natural gas pipeline that will provide a steady stream of natural gas to the Jackson area, eliminating the need for trucking LNG along public highways. The proposed action would be located on lands administered by the Forest Service, State of Wyoming lands, and private lands. Most of the pipeline route would be located on the Bridger-Teton National Forest.

Pipeline construction is anticipated to begin in mid-year 2006 and the pipeline should be fully operational by the beginning of the 2006 winter season. The pipeline's sole purpose is to deliver processed natural gas to the Jackson area. The pipeline is not designed to receive natural gas directly from gas wells. Newly discovered gas resources along the pipeline route could not and would not be added to the proposed pipeline.

Possible Alternatives

The proposed pipeline route and other potentially feasible route segments have been identified by Lower Valley Energy. Possible alternatives to the proposed action include the selection of combinations of these segments. No alternative route segment to the Hoback Canyon corridor along U.S. Highway 89/191 has been found for this portion of the proposed pipeline route. The scoping process and environmental analysis will evaluate the feasibility of alternatives to the proposed action.

Responsible Officials

Greg Clark, District Ranger; Big Piney Ranger District; P.O. Box 218; Big Piney, Wyoming 83113; and Nancy Hall, District Ranger; Jackson Ranger District; P.O. Box 1689; Jackson, Wyoming 83001.

Nature of Decision To Be Made

The decision, which is based on this analysis, will be to decide if a special use authorization will be issued to Lower Valley Energy to construct a natural gas pipeline on National Forest System land between Merna and Jackson Wyoming either through the implementation of the proposed action or an alternative to the proposed action. The decision will include mitigation measures identified as being needed during this planning process in addition to any prescribed in the Forest Plan.

Scoping Process

The Forest Service is seeking information, comments, and assistance from individuals, organizations and federal, state, and local agencies that may be interested in or affected by the proposed action (36 CFR 219.6).

Public comments will be used and disclosed in the environmental analysis documented in the Lower Valley Energy Natural Gas Pipeline EIS. Public participation will be solicited by notifying in person and/or by mail known interested and affected parties. A legal notice and news releases will be used to give the public general notice. Open houses will be held from 4 p.m. to 7 p.m. on Monday, July 19, 2004, at the Teton County Library Auditorium in Jackson and from 4 p.m. to 7 p.m. on Tuesday July 20, 2004, at the Bondurant Elementary School in Bondurant. Forest Service and Lower Valley Energy representatives will be available to explain the project and answer questions.

A reasonable range of alternative will be evaluated and reasons will be given for eliminating alternatives from detailed study. A “no-action alternative” is required, meaning that no pipeline would be constructed, and LNG delivery to Jackson would continue by existing methods. Alternatives will provide different pipeline routes in response to public issues, management concerns, and resource opportunities identified during the scoping process. Scoping comments and existing condition reports will also be used to develop alternatives. It is possible that no other action alternative, other than the proposed action, will be determined to be feasible by the environmental analysis.

Preliminary Issues

The Forest Service has identified the following potential issues. No determination has been made as to which issues will be examined in detail in the environmental analysis. Your input will help determine which of these issues merit detailed analysis and will also help identify additional issues related to the proposed action that may not be listed here.

• Coordination with the Wyoming Department of Transportation (WYDOT) for use of the Hoback Canyon corridor along U.S. Highway 89/191.

• Coordination with WYDOT for future maintenance of the highway and the pipeline.

• Effects of pipeline construction of the Hoback River.

• Effects of pipeline construction on wetlands.

• Rights-of-way across private lands.

• Effects of pipeline construction on individuals, property, and highway traffic.

• Public safety.

• Pipeline integrity in active landslide and fault areas.

• Effects on seasonal recreational uses.

• Effects of pipeline construction and operation on wildlife habitats

• Concern that newly discovered gas resources would be added to the pipeline, which would encourage exploration along the pipeline route (Note: This concern has been addressed above in the proposed action. Newly discovered gas from wells along the pipeline route will not be added to the proposed pipeline, which will carry only processed gas).

Early Notice of Importance of Public Participation in Subsequent Environmental Review

The Draft EIS (DEIS) is expected to be filed with the Environmental Protection Agency (EPA) and to be available for public comment in June 2005. At that time, the EPA will publish a notice of availability for the DEIS in the Federal Register. The comment period on the DEIS will be 45 days from the date the EPA publishes the notice of availability in the Federal Register.

The Forest Service believes, at this early stage, it is important to give reviewers notice of several court rulings related to public participation in the environmental review process. First, reviewers of the DEIS must structure their participation in the environmental review of the proposal so that it is meaningful and alerts an agency to the reviewer's position and contentions; Vermont Yankee Nuclear Power Corp. v. NRDC. 435 U.S. 519, 553 (1978). Also, environmental objections that could be raised at the DEIS stage but are not raised until after completion of the Final Environmental Impact Statement (FEIS) may be waived or dismissed by the courts; City of Angoon v. Hodel, 803 F. 2d 1016, 1022 (9th Cir. 1986) and Wisconsin Heritages, Inc., v. Harris, 490 F. Supp. 1334, 1338 (E.D. Wis. 1980). Because of these court rulings, it is very important that those interested in this proposed action participate by the close of the 45 day comment period on the DEIS so that substantive comments and objections are made available to the Forest Service at a time when it can meaningful consider them and respond to them in the Final EIS (FEIS).

To assist the Forest Service in identifying and considering issues and concerns on the proposed actions, comments on the DEIS should be as specific as possible. It is also helpful if comments refer to specific pages or chapters of the draft statement. Comments may also address the adequacy of the DEIS or the merits of the alternatives formulated and discussed in the statements. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)
Dated: July 6, 2004.
Greg W. Clark.
District Ranger, Big Piney Ranger District, Bridger-Teton National Forest.

[FR Doc. 04-15793 Filed 7-15-04; 8:45 am]

BILLING CODE 3410-11-M